DEPARTMENT OF COMMERCE

National Oceanic and Atmospheric Administration

50 CFR Part 622

[Docket No. 160502383-6483-01]

RIN 0648-BG05

Fisheries of the Caribbean, Gulf of Mexico, and South Atlantic; Reef Fish Resources of the Gulf of Mexico; Recreational Management Measures; Control Date

AGENCY: National Marine Fisheries Service (NMFS), National Oceanic and Atmospheric Administration (NOAA), Commerce.

ACTION: Advanced notice of proposed rulemaking; request for comments.

SUMMARY: This notice announces the establishment of a control date of December 31, 2015, that the Gulf of Mexico Fishery Management Council (Council) may use if it decides to create an allocation-based program for Gulf of Mexico (Gulf) reef fish headboats that participate in the Southeast Region Headboat Survey (SRHS). Vessels that begin participating in the SRHS after the control date may not be able to participate in the proposed program, and landings after the control date may not be used in determining allocations. NMFS invites comments on the establishment of this control date.

DATES: Written comments must be received by July 15, 2016.

ADDRESSES: You may submit comments on the proposed rule identified by “NOAA-NMFS-2016-0056” by either of the following methods:

• Electronic Submission: Submit all electronic public comments via the Federal e-Rulemaking Portal. Go to www.regulations.gov/#!docketDetail;D=NOAA-NMFS-2016-0056, click the “Comment Now!” icon, complete the required fields, and enter or attach your comments.

• Mail: Submit written comments to Susan Gerhart, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Susan Gerhart, NMFS Southeast Regional Office, telephone: 727-824-5305, or email: susan.gerhart@noaa.gov.

SUPPLEMENTARY INFORMATION: In early 2015, the Council requested the development of Amendment 42 to the Fishery Management Plan for Reef Fish Resources of the Gulf of Mexico (Amendment 42) to address management for the headboat component of the Gulf reef fish fishery recreational sector. Management measures under consideration in Amendment 42 include allocation-based programs. The purpose of the proposed measures in Amendment 42 is to reduce management uncertainty and improve economic conditions for operators and owners of Gulf reef fish headboats, and provide flexibility by increasing fishing opportunities for their angler passengers through a management program for Gulf headboats participating in the SRHS.

In the Gulf, there is a Federal charter vessel/headboat permit for reef fish and the permit does not distinguish between headboats and charter vessels. The SRHS collects catch and effort data from headboats in the Southeast Region, thereby producing a catch history for each vessel included in the survey. In addition, for fishery managers, the SRHS continues to be the sole source for effort and landings estimates for the headboat component as a whole. For these reasons, the vessels eligible to participate in the program developed in Amendment 42 are those vessels with Federal charter vessel/headboat permits for reef fish that also have landings in the SRHS. The availability of vessel-specific landings data through the SRHS may allow development of an allocation-based management program for headboats using those landings histories.

This notice informs current and potential participants in the headboat component of the Gulf reef fish fishery that the Council intends to consider limiting participation in any allocation-based management program developed through Amendment 42 to only vessels with landings in the SRHS on or before December 31, 2015. Vessels joining the SRHS after this date may not be eligible to participate in an allocation-based program that could be developed as part of Amendment 42, and landings after this control date may not be used in determining possible allocations. An analysis of specific biological, economic, and social effects will be presented in Amendment 42.

Publication of the control date of December 31, 2015, in the Federal Register informs reef fish fishery participants of the Council's considerations, and gives notice to anyone entering the reef fish fishery after the control date that they would not be assured of participating in the allocation-based program should the program be implemented using the control date as an eligibility criterion. Implementation of any such program requires preparation of an amendment to the respective fishery management plan and publication of a notice of availability and proposed rule in the Federal Register with public comment periods, and, if approved by the Secretary of Commerce, issuance of a final rule.

The establishment of a control date does not commit the Council or NMFS to any particular management decisions. The Council may or may not make use of this control date as part of the requirements for any allocation-based management program developed through Amendment 42. Fishermen are not guaranteed future participation in a possible program, regardless of their entry date into the fishery. The Council may take action that would affect participants who were in the SRHS prior to the control date, or the Council may choose to take no further action to develop an allocation-based management program.

This notification also gives the public notice that interested participants should locate and preserve records that substantiate and verify their participation in the headboat component of the Gulf reef fish fishery and the SRHS.

Authority: 16 U.S.C. 1801 et seq.

Dated: June 9, 2016.
Samuel D. Rauch III,
Deputy Assistant Administrator for Regulatory Programs, National Marine Fisheries Service.

[FR Doc. 2016-14082 Filed 6-14-16; 8:45 am]

BILLING CODE 3510-22-P